DEPARTMENT OF THE INTERIOR

Bureau of Land Management

[LLUTW02100-L13300000-EN0000]

Notice of Intent To Prepare an Environmental Impact Statement for the Proposed Sevier Playa Project, Millard County, UT

AGENCY: Bureau of Land Management, Interior.

ACTION: Notice of Intent.

SUMMARY: In compliance with the National Environmental Policy Act of 1969, as amended (NEPA), the Federal Land Policy and Management Act of 1976, as amended, and the Mineral Leasing Act of 1920, as amended, the Bureau of Land Management (BLM) Utah Fillmore Field Office intends to prepare an Environmental Impact Statement (EIS) to analyze and disclose impacts associated with the Sevier Playa Project, a proposed potash mine located on public land in central Millard County, Utah, and by this notice is announcing the beginning of the scoping process to solicit public comments and identify issues.

DATES: This notice initiates the public scoping process for the EIS. Comments on issues may be submitted in writing for 30 calendar days following the publication of this notice. The date(s) and location(s) of any scoping meetings will be announced at least 15 days in advance through local media, newspapers and the BLM Web site at: www.ut.blm.gov. In order to be included in the Draft EIS, all comments must be received prior to the close of the 30-day scoping period or 15 days after the last public meeting, whichever is later. Additional opportunities for public participation will be provided upon publication of the Draft EIS.

ADDRESSES: You may submit comments related to the Sevier Playa Project by any of the following methods:

• Email: blm_ut_fm_comments@blm.gov.

• Fax: 435-743-3135.

• Mail: BLM, Fillmore Field Office, 95 East 500 North, Fillmore, UT 84631.

Documents pertinent to this proposal may be examined at the BLM Fillmore Field Office.

FOR FURTHER INFORMATION CONTACT: Cindy Ledbetter, Environmental Coordinator; telephone 435-743-3100; address BLM, 95 East 500 North, Fillmore, UT 84631; email blm_ut_fm_comments@blm.gov. Contact Ms. Ledbetter to have your name added to our mailing list. Persons who use a telecommunications device for the deaf (TDD) may call the Federal Information Relay Service (FIRS) at 1-800-877-8339 to leave a message or question for Ms. Ledbetter. The FIRS is available 24 hours a day, 7 days a week. Replies are provided during normal business hours.

SUPPLEMENTARY INFORMATION: The applicant, Peak Minerals Inc. (Peak Minerals), has requested to construct an operational potash mine on BLM-leased lands which they hold the right to develop, and to use off-lease BLM-administered lands through an application for a right-of-way (ROW) authorization for supporting structures. Peak Minerals is proposing to construct, operate, and maintain the Sevier Playa Project which would include facilities to extract and process potash from the brine solution found in the leased area. Potash is defined by regulation under 43 CFR part 3500 and the Mineral Leasing Act of 1920 as a solid leasable mineral. The Sevier Playa leased area is located in southwestern Utah in the central portion of Millard County, and is defined generally by the geographical boundaries of the Sevier Playa. Peak Minerals controls directly, or through agreement, the BLM mineral leases on more than 124,000 acres. Potash leases grant the lessee the exclusive right and privilege to explore for, drill for, mine, extract, remove, beneficiate, concentrate, or otherwise process and dispose of the potassium deposits and other associated minerals. The leased lands for the proposed Project are predominantly administered by the BLM, with isolated 640-acre sections managed by the Utah School and Institutional Trust Lands Administration. The proposed project would be designed to produce 300,000 tons of potash per year in the form of K2SO4 or sulphate of potash (SOP), for a total estimated production (over the anticipated minimum project life of 30 years) of 9 million metric tons of SOP.

An operating plan for mining (Mining Plan) for the Sevier Playa Project, prepared by Peak Minerals, describes the project in detail and is available at the BLM Fillmore Field Office. As described in the Mining Plan, brine would be extracted from beneath the playa surface by extraction trenches and wells. Enhanced aquifer recharge would be implemented to support the hydraulic head necessary to maintain target extraction rates. Extracted brine would be transferred to concentration ponds to concentrate and precipitate the resource through solar evaporation. Potash salts would be harvested and stockpiled, then crushed to reduce particle size. Scrubbing and flotation would separate potassium-rich salts from other materials contained in the precipitate. Crystallization processes would further refine the product to meet purity specifications.

The project facilities would include ponds, wells, a processing facility, power line, gas line, rail facility, freshwater well, and access roads. The site would be accessed via state highways on the north and east sides. To the extent possible, existing roads would be used for access for construction and maintenance. Power would be brought in from the north end of the playa via a new power line. The fresh water supply would come from a well supply due south of the plant site, while the natural gas supply line would be brought from a supply point east of the plant site. The main substation would be located on the northwest corner of the processing plant. An administration building and combined equipment shop, maintenance area, and warehouse would be constructed.

The purpose of the public scoping process is to determine relevant issues that will influence the scope of the environmental analysis, including alternatives, and guide the process for developing the EIS. At present, the BLM has identified the following preliminary issues: Air quality, water quality and water rights, traffic and usage of secondary roads, on-site and compensatory mitigation, and wildlife concerns. The BLM will use NEPA public participation requirements to assist the agency in satisfying the public involvement requirements under Section 106 of the National Historic Preservation Act (NHPA) (16 U.S.C. 470f) pursuant to 36 CFR 800.2(d)(3). The information about historic and cultural resources within the area potentially affected by the proposed Sevier Playa Project will assist the BLM in identifying and evaluating impacts to such resources in the context of both NEPA and Section 106 of the NHPA. The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed Sevier Playa Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jenna Whitlock,
Associate State Director.

[FR Doc. 2014-05359 Filed 3-11-14; 8:45 am]

BILLING CODE 4310-DQ-P